DEPARTMENT OF THE INTERIOR

Bureau of Land Management

[OR-030-00-2822-M948: GPO-0099]

Emergency Motor Vehicle Use Limitations; Lincoln Fire; Oregon

AGENCY: Bureau of Land Management, Vale District, Oregon, Department of the Interior.

ACTION: A temporary closure to motor vehicle use on public lands within the area of the Lincoln Fire (M948) administered by the Bureau of Land Management (BLM), Malheur Resource Area, Vale District, Oregon.

SUMMARY: One June 24, 1999 the Lincoln Fire burned 1415 acres of public and private land within T.19S., R.46E., Williamette Meridian, Sections 28, 29, 30, 31, 32, and 33. Because of the damage caused by the fire, this closure is necessary to prevent erosion and enhance the fire rehabilitation efforts within the burned area. The authorized officer has determined that vehicle use other than on designated routes will cause considerable adverse effects upon recovering soil and vegetation resources in the burned area and may also limit the successful establishment of desirable vegetation or other proposed rehabilitation actions.

Open roads within the fire area will be clearly identified. A map designating those routes which will remain open to vehicle use is included in the Vale District Bureau of Land Management, Lincoln Fire Rehabilitation Plan M948, Environmental Assessment (EA No. OR-030-99-021). The map and plan can be reviewed at: Vale District Office, USDI Bureau of Land Management, 100 East Oregon Street, Vale, Oregon 97918.

Prohibited Act: Pursuant to 43 CFR 8364.1, motorized vehicle use is prohibited on public land within the boundaries of the Lincoln Fire (M948), except on designated roads.

Penalties: The authority for this closure is found under section 303(a) of the Federal Land Policy and Management Act of 1976 (43 U.S.C. 1733 (a)) and 43 CFR 8360.0-7. Any person who knowingly and willfully violates this closure may be tried before a United States Magistrate and fined no more than $1,000 or imprisoned no more than 12 months, or both. Such violations may also be subject to the enhanced fines provided for by Title 18 U.S.C. 3571.

DATES: This closure will take effect upon the published date of this notice and will continue for one year.

FOR FURTHER INFORMATION CONTACT: Roy L. Masinton, Field Office Manager, Malheur Resource Area, Vale District Office, 100 Oregon Street, Vale, OR 97914, Telephone—(541) 473-3144.

Dated: January 28, 2000.
Roy L. Masinton,
Field Office Manager, Malheur Resource Area.

[FR Doc. 00-2514 Filed 2-3-00; 8:45 am]

BILLING CODE 4310-33-M